DEPARTMENT OF EDUCATION

[Docket No.: ED-2022-SCC-0113]

Agency Information Collection Activities; Submission to the Office of Management and Budget for Review and Approval; Comment Request; Bipartisan Safer Communities Act (BSCA), Stronger Connections Grant (SCG) Program

AGENCY: Office of Elementary and Secondary Education (OESE), Department of Education (ED).

ACTION: Notice.

SUMMARY: In accordance with the Paperwork Reduction Act (PRA) of 1995, the Department is proposing an extension without change of a currently approved information collection request (ICR).

DATES: Interested persons are invited to submit comments on or before December 22, 2022.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Bryan Williams, 202-453-6715.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Bipartisan Safer Communities Act (BSCA), Stronger Connections Grant (SCG) Program.

OMB Control Number: 1810-0770.

Type of Review: An extension without change of a currently approved ICR.

Respondents/Affected Public: State, local, and Tribal Governments.

Total Estimated Number of Annual Responses: 56.

Total Estimated Number of Annual Burden Hours: 3,360.

Abstract: The Department of Education (the Department) requests an extension of the information collection under the School Improvement Programs section of the Bipartisan Safer Communities Act (BSCA), and the Stronger Connections Grant (SCG), OMB number 1810-0770. Under this program, the Department awards grants to State educational agencies (SEAs) for the purpose of providing competitive grants to high-need local educational agencies (LEAs) for activities under section 4108 of the Elementary and Secondary Education Act of 1965 (ESEA).

Eligible applicants for the SCG funds include those in any of the 50 States, the District of Columbia, the Commonwealth of Puerto Rico, the Bureau of Indian Education, and the Outlying Areas. Each SEA will award no less than 95 percent of its SCG allocation on a competitive basis to high-need LEAs as determined by the State. The SEA will reserve no more than 1% of its SCG allocation for administration and will use any remaining funds not awarded to LEAs for State-level activities to support section 4108 of the Elementary and Secondary Education Act of 1965 (ESEA).

This information collection will support the Department in providing effective technical assistance, monitoring and oversight to ensure that these funds are awarded and used as required by the BSCA—i.e., that the funds are awarded to high-need LEAs on a competitive basis for activities allowable under section 4108 of the ESEA. Department staff will review the information submitted by SEAs (1) for monitoring purposes, to verify that SEAs are implementing the BSCA requirements for SEA award of the SCG funds; and (2) to understand the manner in which SEAs are implementing these requirements. This information will enable the Department to provide effective technical assistance and support to States. If this information is not collected, the Department will be unable to fully and adequately meet monitoring and technical assistance responsibilities as States implement this program.

Dated: November 17, 2022.
Kun Mullan,
PRA Coordinator, Strategic Collections and Clearance, Governance and Strategy Division, Office of Chief Data Officer, Office of Planning, Evaluation and Policy Development.

[FR Doc. 2022-25441 Filed 11-21-22; 8:45 am]

BILLING CODE 4000-01-P